DEPARTMENT OF TRANSPORTATION

Federal Aviation Administration

Fifteenth Meeting: RTCA Special Committee 214, Joint With EUROCAE WG-78, Standards for Air Traffic Data Communication Services

AGENCY: Federal Aviation Administration (FAA), U.S. Department of Transportation (DOT).

ACTION: Meeting Notice of RTCA Special Committee 214, Joint with EUROCAE WG-78, Standards for Air Traffic Data Communication Services.

SUMMARY: The FAA is issuing this notice to advise the public of the fifteenth meeting of RTCA Special Committee 214, Joint with EUROCAE WG-78, Standards for Air Traffic Data Communication Services.

DATES: The meeting will be held June 4-8, 2012, from 9:00 a.m.-5:00 p.m.

ADDRESSES: The meeting will be held at Maastricht UAC, Eurocontrol Maastricht UAC, The Netherlands. Contact Christopher.Adams@eurocontrol.int, or Tel.: +31 43 366 1396.

FOR FURTHER INFORMATION CONTACT: The RTCA Secretariat, 1150 18th Street NW., Suite 910, Washington, DC 20036, or by telephone at (202) 833-9339, fax at (202) 833-9434, or Web site at http://www.rtca.org. Please confirm your attendance to Christopher.Adams@eurocontrol.int no later than May 21, 2012 with the following security information: Last Name/First name, Organization, ID or Passport number, Details for visiting the Maastricht centre, hotels and how to get here can be found at http://www.eurocontrol.int/articles/maastricht-upper-area-control-centre-muac-contacts, (for hotels please note that the hotel “Tulip Inn Maastricht Airport” is next to the runway and the cargo hangers—first flight at between 06:00 and 06:15)

SUPPLEMENTARY INFORMATION: Pursuant to section 10(a)(2) of the Federal Advisory Committee Act (Pub. L. 92-463, 5 U.S.C., App.), notice is hereby given for a meeting of Special Committee 214. The agenda will include the following:

June 4, 2012

PLENARY

• Welcome/Introduction/Administrative Remarks

• Approval of the Agenda

• Approval of the Minutes of Plenary 14

• Review Action Item Status

• Coordination Activities

• ICAO OPLINK

• Status of changes in RCP Manual

• Status of message set coordination and schedule

Status of Standards

• Revision A of DO305/ED154

• DO-281B/ED-92B

• Review SC214/WG78 schedule, impact on TORs

1330-1700: Plenary Session

• Review of work

• SPR & INT documents version I

Status OPA Version I (RCP/RSP/RIP Specifications)

Status OSA Version I

• SC-214/WG-78 plan for publication

• Validation activities

• Review of Position Papers and Contributions

• Approval of Sub

• Approval of Sub-Group Meeting Objectives

Day 2 (Tuesday) 900-1700: Sub-Group Sessions

Day 3 (Wednesday) 900-1700: Sub-Group Sessions

Day 4 (Thursday): Plenary Session

• Configuration Sub-Group Report & Assignment of Action Items

• Validation Sub-Group Report & Assignment of Action Items

• VDL Sub-Group Report & Assignment of Action Items

• Security Ad Hoc Group Report

• Review Dates and Locations 2012 Plenary and SG Meetings

• Any Other Business

• Adjourn

Day 5 (Friday) 900-1600: Sub-Group Sessions

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 9, 2012.
John Raper,
Manager, Business Operations Branch, Federal Aviation Administration.

[FR Doc. 2012-12083 Filed 5-17-12; 8:45 am]

BILLING CODE 4910-13-P